DEPARTMENT OF TRANSPORTATION

Federal Aviation Administration

Notice of Intent To Prepare an Environmental Impact Statement (EIS) for a Proposed New Runway at Norfolk International Airport, VA

AGENCY: Federal Aviation Administration (FAA), DOT.

ACTION: Notice of intent to prepare and consider an environmental impact statement and to conduct agency and public scoping meetings.

SUMMARY: The Federal Aviation Administration (FAA) is issuing this notice to advise the public that an Environmental Impact Statement (EIS) will be prepared and considered for a proposed new runway at Norfolk International Airport, Virginia. In addition, to ensure that all major project-related issues are identified, agency scoping and public scoping meetings will be held. The Bureau of Utilities for the City of Norfolk, the Norfolk District of the U.S. Army Corps of Engineers, and the U.S. Environmental Protection Agency Region III will be cooperating agencies on the EIS. Scoping meetings will be held to determine the scope of the EIS and to identify the major project-related issues to be addressed and emphasized in the EIS. The FAA hereby invites the participation of Federal, State and local agencies, any affected Indian tribe, the proponent of the action, and any other interested parties. Two scoping meetings are planned—the first is an agency scoping meeting intended for organizations having jurisdiction by law or specific expertise with respect to any environmental impacts associated with the action; the second is a public meeting intended for other interested parties, including those who may not be in accord with the action on environmental grounds. However, both meetings are open to the public.

The FAA further invites agencies, organizations, and the general public to provide written comments relative to the action and the issues to be addressed in the EIS. Scoping comments should clearly describe specific issues or topics that the commentator believes the EIS should address.

ADDRESSES: Written comments and requests to be included on a mailing list of persons interested in the EIS should be sent to Daisy Mather, Environmental Team Leader, Federal Aviation Administration Eastern Region, Airports Division AEA-610, 1 Aviation Plaza, Jamaica, New York 11434.

DATES: The scoping meetings are scheduled for August 2, 2001. The agency scoping meeting is scheduled to begin at 9 a.m. in the Norfolk Airport Authority Conference Room at the Airport, while the public scoping meeting is scheduled to begin at 3 p.m. at the Norfolk Airport Hilton Hotel at 1500 North Military Highway, Norfolk, Virginia. Attendees may submit comments at the meetings, and written comments received by and postmarked by August 17, 2001 will be accepted for further consideration in the EIS process. Written comments should be sent to the address specified above.

FOR FURTHER INFORMATION CONTACT: Daisy Mather, Environmental Team Leader, Airports Division AEA-610, Federal Aviation Administration Eastern Region, 1 Aviation Plaza, Jamaica, New York 11434; Telephone (718) 553-2511; email: daisy.mather@faa.gov.

SUPPLEMENTARY INFORMATION: The Norfolk Airport Authority has completed a master plan update for future development projects at Norfolk International Airport, including construction of a new Runway 5R-23L. The proposed new runway project involves numerous airside improvements, including, but not limited to the following: runway and taxiway construction, taxiway relocation, runway safety area construction, new airfield lighting, improvements to existing lighting, relocation of the Very High Frequency Omni-directional Range/Tactical Air Navigation (VORTAC) facility, installation of a Medium Intensity Approach Lighting System with Runway Alignment Indicator Lights (MALSR) for Runway 23L and a Category II Instrument Landing MALSR (CAT II ILS/MALSR) for Runway 5R. Because the potential exists for this proposed new runway and other projects project to create significant environmental impacts, the FAA determined that preparation of an EIS was necessary.

The Airport is located in the City of Norfolk, adjacent to the City of Virginia Beach municipal boundary and the U.S. Navy Little Creek Amphibious Base. The environmental issues of concern for evaluation in the EIS are anticipated to be noise, environmental justice, water quality, public parks and recreation areas, threatened and endangered species, biotic communities, wetlands, air quality, secondary impacts, and cumulative impacts. Other isues that will be addressed in the EIS include potential impacts to floodplains, cultural resources, utilities, and hazardous materials.

With regard to project alternatives, the EIS will include an analysis of a variety of alternatives considered during the project planning phase of the process. In addition to the proposed action and the No Action alternatives, the analysis will include individual project site locations, mitigation alternatives, and other alternatives that may arise from the scoping process.

Issued on June 22, 2001 in Jamaica, New York.
Thomas Felix,
Manager, Planning and Programming Branch, Airports Division, Eastern Region.

[FR Doc. 01-16316 Filed 6-27-01; 8:45 am]

BILLING CODE 4910-13-M